DEPARTMENT OF ENERGY

Federal Energy Regulatory Commission

Combined Notice of Filings

Take notice that the Commission has received the following Natural Gas Pipeline Rate and Refund Report filings:

Filings Instituting Proceedings

Docket Numbers: RP15-154-000.

Applicants: Texas Eastern Transmission, LP.

Description: § 4(d) rate filing per 154.204: Negotiated Rates eff 11-15-2014 for Releases from EQT 911108 to be effective 11/15/2014.

Filed Date: 11/6/14.

Accession Number: 20141106-5029.

Comments Due: 5 p.m. ET 11/18/14.

Docket Numbers: RP15-155-000.

Applicants: Enable Mississippi River Transmission, L.

Description: § 4(d) rate filing per 154.204: Negotiated Rate Filing to Amend LER 5680's Attachment A 11-6-14 to be effective 11/6/2014.

Filed Date: 11/6/14.

Accession Number: 20141106-5030.

Comments Due: 5 p.m. ET 11/18/14.

Docket Numbers: RP15-156-000.

Applicants: Natural Gas Pipeline Company of America.

Description: § 4(d) rate filing per 154.204: Wells Fargo Negotiated Rate to be effective 11/7/2014.

Filed Date: 11/6/14.

Accession Number: 20141106-5070.

Comments Due: 5 p.m. ET 11/18/14.

Docket Numbers: RP15-157-000.

Applicants: Tennessee Gas Pipeline Company, L.L.C.

Description: § 4(d) rate filing per 154.204: Clean-Up Filing-Remove PS/GHG Surcharge for FT-A Extended Transportation Service to be effective 11/1/2014.

Filed Date: 11/6/14.

Accession Number: 20141106-5148.

Comments Due: 5 p.m. ET 11/18/14.

Docket Numbers: RP15-158-000.

Applicants: Algonquin Gas Transmission, LLC.

Description: § 4(d) rate filing per 154.204: Negotiated Rate—Freepoint Commodities 510782 to be effective 11/8/2014.

Filed Date: 11/7/14.

Accession Number: 20141107-5033.

Comments Due: 5 p.m. ET 11/19/14.

Docket Numbers: RP15-159-000.

Applicants: Texas Eastern Transmission, LP.

Description: § 4(d) rate filing per 154.204: Negotiated Rate—BP Energy 911205 to be effective 11/8/2014.

Filed Date: 11/7/14.

Accession Number: 20141107-5039.

Comments Due: 5 p.m. ET 11/19/14.

Docket Numbers: RP15-160-000.

Applicants: Destin Pipeline Company, L.L.C.

Description: § 4(d) rate filing per 154.204: Map System Update to be effective 12/8/2014.

Filed Date: 11/7/14.

Accession Number: 20141107-5063.

Comments Due: 5 p.m. ET 11/19/14.

Docket Numbers: RP15-161-000.

Applicants: Iroquois Gas Transmission System, L.P.

Description: § 4(d) rate filing per 154.204: 11/07/14 Negotiated Rates—Cargill Incorporated (HUB) 3085-89 to be effective 11/15/2014.

Filed Date: 11/7/14.

Accession Number: 20141107-5075.

Comments Due: 5 p.m. ET 11/19/14.

Docket Numbers: RP15-162-000.

Applicants: Northwest Pipeline LLC.

Description: Compliance filing per 154.203: Petition for Limited Waiver.

Filed Date: 11/7/14.

Accession Number: 20141107-5119.

Comments Due: 5 p.m. ET 11/13/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-863-001.

Applicants: Columbia Gas Transmission, LLC.

Description: Compliance filing per 154.203: Show Cause Compliance Filing to be effective 10/16/2014.

Filed Date: 11/7/14.

Accession Number: 20141107-5087.

Comments Due: 5 p.m. ET 11/19/14.

Docket Numbers: RP14-864-001.

Applicants: Columbia Gulf Transmission, LLC.

Description: Compliance filing per 154.203: Show Cause Compliance Filing to be effective 10/16/2014.

Filed Date: 11/7/14.

Accession Number: 20141107-5093.

Comments Due: 5 p.m. ET 11/19/14.

Docket Numbers: RP14-865-001.

Applicants: Hardy Storage Company, LLC.

Description: Compliance filing per 154.203: Show Cause Compliance Filing to be effective 10/16/2014.

Filed Date: 11/7/14.

Accession Number: 20141107-5200.

Comments Due: 5 p.m. ET 11/19/14.

Docket Numbers: RP14-866-001.

Applicants: Crossroads Pipeline Company.

Description: Compliance filing per 154.203: Show Cause Compliance Filing to be effective 10/16/2014.

Filed Date: 11/7/14.

Accession Number: 20141107-5178.

Comments Due: 5 p.m. ET 11/19/14.

Docket Numbers: RP14-867-001.

Applicants: Central Kentucky Transmission Company.

Description: Compliance filing per 154.203: Show Cause Compliance Filing to be effective 10/16/2014.

Filed Date: 11/7/14.

Accession Number: 20141107-5175.

Comments Due: 5 p.m. ET 11/19/14.

Docket Numbers: RP14-881-001.

Applicants: Vector Pipeline L.P.

Description: Compliance filing per 154.203: Compliance Filing to Show Cause Order RP14-881-001 to be effective 10/16/2014.

Filed Date: 11/7/14.

Accession Number: 20141107-5032.

Comments Due: 5 p.m. ET 11/19/14.

Docket Numbers: RP14-891-001.

Applicants: Transwestern Pipeline Company, LLC.

Description: Compliance filing per 154.203: Compliance with RP14-891 Order on Show Cause Filings to be effective 10/16/2014.

Filed Date: 11/7/14.

Accession Number: 20141107-5080.

Comments Due: 5 p.m. ET 11/19/14.

Docket Numbers: RP14-907-001.

Applicants: Questar Pipeline Company.

Description: Compliance filing per 154.203: Show Cause Order Compliance Filing to be effective 6/16/2014.

Filed Date: 11/6/14.

Accession Number: 20141106-5071.

Comments Due: 5 p.m. ET 11/18/14.

Docket Numbers: RP14-915-001.

Applicants: Lake Charles LNG Company, LLC.

Description: Compliance filing per 154.203: Compliance with RP14-915 Order on Show Cause Filings to be effective 10/16/2014.

Filed Date: 11/7/14.

Accession Number: 20141107-5065.

Comments Due: 5 p.m. ET 11/19/14.

Docket Numbers: RP14-934-002.

Applicants: Questar Southern Trails Pipeline Company.

Description: Compliance filing per 154.203: Show Cause Order Supplemental Filing 2.

Filed Date: 11/7/14.

Accession Number: 20141107-5111.

Comments Due: 5 p.m. ET 11/19/14.

Docket Numbers: RP14-935-004.

Applicants: Questar Overthrust Pipeline Company.

Description: Compliance filing per 154.203: Show Cause Order Supplemental Filing to be effective 6/16/2014.

Filed Date: 11/7/14.

Accession Number: 20141107-5218.

Comments Due: 5 p.m. ET 11/19/14.

Docket Numbers: RP15-101-001.

Applicants: Florida Gas Transmission Company, LLC.

Description: Tariff Amendment per 154.205(b): Amendment to RP15-101 Rate Case to be effective 12/1/2014.

Filed Date: 11/7/14.

Accession Number: 20141107-5222.

Comments Due: 5 p.m. ET 11/19/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2014.
Nathaniel J. Davis, Sr.,
Deputy Secretary.

[FR Doc. 2014-27117 Filed 11-14-14; 8:45 am]

BILLING CODE 6717-01-P